DEPARTMENT OF HOMELAND SECURITY

Transportation Security Administration

Extension of Agency Information Collection Activity Under OMB Review: Exercise Information System

AGENCY: Transportation Security Administration, DHS.

ACTION: 30-Day notice.

SUMMARY: This notice announces that the Transportation Security Administration (TSA) has forwarded the Information Collection Request (ICR), Office of Management and Budget (OMB) control number 1652-0057, abstracted below, to OMB for review and approval of an extension of the currently approved collection under the Paperwork Reduction Act (PRA). The ICR describes the nature of the information collection and its expected burden for the TSA Exercise Information System (EXIS®). EXIS® is a web portal designed to serve stakeholders in the transportation industry in regard to security training exercises. EXIS® provides stakeholders with transportation security exercise scenarios and objectives, best practices and lessons learned, and a repository of the user's own historical exercise data for use in future exercises. It also allows stakeholders to design and evaluate their own security exercises based on the unique needs of their specific transportation mode or method of operation. The use of, and submission of information into, EXIS® is completely voluntary.

DATES: Send your comments by October 4, 2021. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” or by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION:

TSA published a Federal Register notice, with a 60-day comment period soliciting comments, of the following collection of information on May 3, 2021, 86 FR 23419.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: EXIS®.

Type of Request: Extension of a currently approved collection.

OMB Control Number: 1652-0057.

Forms(s): NA.

Affected Public: Transportation System Sector.

Abstract: EXIS® is a voluntary, online tool developed by TSA to support the mission of a program developed and implemented by TSA to fulfill requirements of the Implementing Recommendations of the 9/11 Commission Act of 2007 concerning security exercises.¹ These statutory programs led to the development of the Intermodal Security Training Exercise Program (I-STEP) for the Transportation Systems Sector (TSS). Within the I-STEP program, EXIS® is an interactive resource for the TSS.

¹ See Public Law 110-53 (121 Stat. 255; Aug 3., 2007) at secs. 1407 (public transportation, codified at 6 U.S.C. 1136(a)), 1516 (railroads, codified at 6 U.S.C. 1166), and 1533 (over-the-road buses, codified at 6 U.S.C. 1183).

Number of Respondents: 14,700.

Estimated Annual Burden Hours: An estimated 7,091 hours annually.

Christina A. Walsh,
TSA Paperwork Reduction Act Officer, Office of Information Technology.

[FR Doc. 2021-19021 Filed 9-2-21; 8:45 am]

BILLING CODE 9110-05-P